DEPARTMENT OF THE INTERIOR

National Park Service

60-Day Notice of Intention To Request Clearance of Collection of Information; Opportunity for Public Comment

AGENCY: National Park Service, Department of THE Interior.

ACTION: Notice of intended submission to the Office of Management and Budget (OMB) and request for comments.

SUMMARY: Under the provisions of the Paperwork Reduction Act of 1995 (44 U.S.C. 3507 et seq.) and 5 CFR part 1320, the National Park Service (NPS) invites comments on its intention to request OMB to approve information collections associated with Land and Water Conservation Fund (L&WCF) Battlefield Acquisition Grants. These are existing collections in use without an OMB control number. Section 3 of the Civil War Battlefield Protection Act of 2002 (Pub. L. 107-359, 16 U.S.C. 469k) mandated this grant program. The Act amended the American Battlefield Protection Act of 1996 (16 U.S.C. 496k) and directed that Congress appropriate funds for this grant program out of the Land and Water Conservation Fund (16 U.S.C. 4601 et seq.). The purpose of the L&WCF Battlefield Acquisition Grants program is to assist in the preservation of America's endangered Civil War battlefields. The grants are used for the fee simple acquisition of land (or for the acquisition of permanent, protective interests in land) at Civil War battlefields listed in the Civil War Sites Advisory Commission's 1993 Report on the Nation's Civil War Battlefields.

DATES: To assure that the NPS considers your comments on this notice, NPS must receive the comments on or before March 9, 2004.

Send Comments to:

John W. Renaud, Project Coordinator, State, Tribal and Local Programs, Heritage Preservation Services, National Center for Cultural Resources, National Park Service, 1849 C St., NW., Org. Code 2255, Washington, DC 20240-0001, via fax at (202) 371-1961, or via e-mail at John_Renaud@nps.gov

FOR FURTHER INFORMATION CONTACT: John W. Renaud, Project Coordinator, State, Tribal and Local Programs, Heritage Preservation Services, National Center for Cultural Resources, National Park Service, 1849 C St., NW., Org. Code 2255, Washington, DC 20240-0001, via fax at (202) 371-1961, via e-mail at John_Renaud@nps.gov, or via telephone at (202) 354-2066.

SUPPLEMENTARY INFORMATION: Title: Land and Water Conservation Fund Battlefield Acquisition Grants.

OMB Number: 1024-xxxx.

Expiration Date of Approval: Being requested from OMB.

Type of Request: Existing collection in use without an OMB control number.

Abstract: This information collection has an impact on State or local governments that wish to apply for Land and Water Conservation Fund battlefield grants to preserve America's endangered Civil War battlefields. The NPS uses the information collections to ensure compliance with the requirements of Section 3 of the Civil War Battlefield Protection Act of 2002 (16 U.S.C. 469k). The NPS also uses the information collections to ensure compliance with the government-wide grant requirements that OMB has issued and the Department of the Interior implements through 43 CFR part 12. This information collection also will produce performance data that NPS uses to assess its progress in meeting goals set in Departmental and NPS strategic plans created pursuant to the 1993 Government Performance and Results Act, as amended.

Respondents: State and local governments.

Estimate of Burden: NPS estimates that the public burden for the L&WCF Battlefield Acquisition Grant program collection of information will average 35 hours per grant proposal and 44 hours per grant for all of the grant-related collections. The combined total public burden for the L&WCF Battlefield Acquisition Grant program-related information collections would average 79 hours per successful applicant/grantee. These estimates of burden include time for reviewing instructions, searching existing data sources, gathering and maintaining the data needed, and reviewing the collection of information.

Estimated Number of Respondents/Record Keepers: NPS estimates that there are 66 responses per year. This is the gross number of responses for all of the elements included in this information collection. The net numbers of applicants and grantees participating in this information collection annually are six applicants and six grantees. The frequency of response varies depending upon the activity. Applicants complete the grant proposal once. Successful applicants execute the grant agreement once and usually seek an amendment once during the one-year grant cycle. During the grant cycle, grantees seek NPS approval once for the land appraisal, the easement/covenant, and the final report. Grantees comply with government-wide record-keeping requirements throughout the duration of the grant. Grantees usually make requests for payment four time a year.

Estimated average number of Applicant responses: 6 annually.

Estimated average gross number of Grantee responses: 60 annually.

Estimated average gross number of responses: 66 annually.

Estimated average burden hours per Applicant response: 35 hours.

Estimated average burden hours per Grantee response: 4.4 hours.

Estimated average annual burden hours per Grantee for all responses: 44 hours.

Estimated total annual average burden hours per respondent for all responses: 79 hours.

Estimated Annual Burden on Respondents: 474 years.

NPS is soliciting comments regarding:

(1) Whether the collection of information is necessary for the proper performance of the functions of NPS, including whether the information will have practical utility;

(2) The accuracy of the burden estimate including the validity of the method and assumptions used;

(3) Ways to enhance the quality, utility, and clarity of the information to be collected;

(4) Ways to minimize the burden of collecting the information, including through the use of appropriate automated, electronic, mechanical, or other forms of information technology; or,

(5) Any other aspect of this collection of information.

NPS will summarize and include in the request for OMB approval all responses to this notice. All comments will also become a matter of public record. You can obtain copies of the information collection from John W. Renaud, Project Coordinator, State, Tribal and Local Programs, Heritage Preservation Services, National Center for Cultural Resources, National Park Service, 1849 C St., NW., Org. Code 2255, Washington, DC 20240-0001.

Dated: December 4, 2003.
Leonard E. Stowe,
Acting Information Collection Clearance Officer, National Park Service, WAPC.

[FR Doc. 04-409 Filed 1-8-04; 8:45 am]

BILLING CODE 4310-SO-M